ENVIRONMENTAL PROTECTION AGENCY

[EPA-HQ-OPP-2014-0888; FRL-9921-65]

Notice of Receipt of Requests for Amendments To Terminate Uses in Certain Pesticide Registrations

AGENCY: Environmental Protection Agency (EPA).

ACTION: Notice.

SUMMARY: In accordance with the Federal Insecticide, Fungicide, and Rodenticide Act (FIFRA), EPA is issuing a notice of receipt of request for amendments by registrants to terminate uses in certain pesticide registrations. FIFRA provides that a registrant of a pesticide product may at any time request that any of its pesticide registrations be amended to terminate one or more uses. FIFRA further provides that, before acting on the request, EPA must publish a notice of receipt of any request in the Federal Register.

DATES: Unless a request is withdrawn by March 27, 2015 for registrations for which the registrant requested a waiver of the 180-day comment period, EPA expects to issue orders terminating these uses. The Agency will consider withdrawal requests postmarked no later than March 27, 2015. Comments must be received on or before March 27, 2015, for those registrations where the 180-day comment period has been waived.

ADDRESSES: Submit your comments, identified by docket identification (ID) number EPA-HQ-OPP-2014-0888, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001. Written Withdrawal Request, ATTN: Christopher Green, Information Technology and Resources Management Division (7502P).

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Mark Hartman, Information Technology and Resources Management Division (7502P), Office of Pesticide Programs, Environmental Protection Agency, 1200 Pennsylvania Ave. NW., Washington, DC 20460-0001; main telephone number: (703) 305-5440; email address: hartman.mark@epa.gov.

SUPPLEMENTARY INFORMATION:

I. General Information

A. Does this action apply to me?

This action is directed to the public in general. Although this action may be of particular interest to persons who produce or use pesticides, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

This notice announces receipt by the Agency of applications from registrants to terminate uses in certain pesticide products registered under FIFRA section 3 (7 U.S.C. 136a) or 24(c) (7 U.S.C. 136v(c)). These registrations are listed in Table 1 of this unit by registration number, product name, active ingredient, and specific uses terminated.

Table 1—Requests for Amendments To Terminate Uses in Certain Pesticide Registrations
EPA registration no. | Product name | Active ingredient | Use to be terminated
352-690 | DuPont Mankocide Fungicide/Bactericide | Mancozeb & Copper hydroxide | Turf, Ornamental plants & Non-bearing citrus.
464-660 | Bioban CS-1135 Antimicrobial Agent | 4,4-Dimethyloxazolidine | Paints, Inks, Emulsions, Adhesives (Non-Food Contact), Metalworking Fluids, Die-Cast Lubricants, Mold-Release Agents, Consumer, Household & Institutional Products, Mineral Slurries & Surfactants.
1624-120 | Borogard ZB | Zinc borate | Paints and coatings.
39967-118 | Veriguard OD | Dazomet & o-Phenylphenol (No Inert use) | Arts, Crafts Latex, Finger Paints, Paints, Coating, Inks & Dyes.
71368-61 | Imidacloprid Technical | Imidacloprid | Terrestrial Nonfood Crop, Domestic Indoor & Outdoor: Companion Animals.
81598-9 | Rotam Methomyl Technical | Methomyl | Barley, Oats & Rye.
83100-27 | Rotam Methomyl 29LV Insecticide | Methomyl | Barley, Oats & Rye.
83100-28 | Rotam Methomyl 90SP Insecticide | Methomyl | Barley, Oats & Rye.

Unless a request is withdrawn by the registrant within 30 days of publication of this notice, EPA expects to issue orders terminating all of these uses. Users of these pesticides or anyone else desiring the retention of a use should contact the applicable registrant directly during this 30-day period.

Table 2 of this unit includes the names and addresses of record for all registrants of the products in Table 1 of this unit, in sequence by EPA company number:

Table 2—Registrants Requesting Amendments to Terminate Uses in Certain Pesticide Registrations
EPA Company No. | Company name and address
352 | E. I. Du Pont De Nemours and Company, 1007 Market Street, Wilmington, DE 19898-0001.
464 | The Dow Chemical Co., 1500 E. Lake Cook Road, Buffalo Grove, IL 60089.
1624 | U.S. Borax, Inc., Agent Name: Delta Analytical Corporation, 12510 Prosperity Drive, Suite 160, Silver Spring, MD 20904.
39967 | Lanxess Corporation, 111 RIDC West Park Drive, Pittsburgh, PA 15275-1112.
71368 | Nufarm, Inc., 4020 Aerial Center Parkway, Suite 101, Morrisville, NC 27560.
81598 | Rotam Limited, Agent Name: Wagner Regulatory Associates, Inc., P.O. Box 640, Hockessin, DE 19707.
83100 | Rotam Agrochemical Company, Ltd., Agent Name: Wagner Regulatory Associates, Inc., P.O. Box 640, Hockessin, DE 19707.

III. What is the agency's authority for taking this action?

Section 6(f)(1) of FIFRA (7 U.S.C. 136d(f)(1)) provides that a registrant of a pesticide product may at any time request that any of its pesticide registrations be amended to terminate one or more uses. FIFRA further provides that, before acting on the request, EPA must publish a notice of receipt of any such request in the Federal Register. Thereafter, the EPA Administrator may approve such a request.

IV. Procedures for Withdrawal of Request

Registrants who choose to withdraw a request for use termination must submit such withdrawal in writing to the person listed under FOR FURTHER INFORMATION CONTACT, postmarked before March 27, 2015, for the requests that the registrants requested to waive the 180-day comment period. This written withdrawal of the request for use termination will apply only to the applicable FIFRA section 6(f)(1) request listed in this notice. If the products have been subject to a previous use termination action, the effective date of termination and all other provisions of any earlier termination action are controlling.

Authority: 7 U.S.C. 136 et seq.

Dated: February 10, 2015.
Mark A. Hartman,
Director, Information Technology and Resources Management Division, Office of Pesticide Programs.

[FR Doc. 2015-03926 Filed 2-24-15; 8:45 am]

BILLING CODE 6560-50-P